DEPARTMENT OF JUSTICE

Antitrust Division

Notice Pursuant to the National Cooperative Research and Production Act of 1993—LiMo Foundation

Correction

In notice document 07-1727 appearing on page 17583 in the issue of Monday, April 9, 2007, make the following correction:

In the second column, in the second full paragraph, in the fourth line, “JAPAN;” should read “JAPAN; NTT DoCoMo Inc., Tokyo, JAPAN;”.

[FR Doc. C7-1727 Filed 4-18-07; 8:45 am]

BILLING CODE 1505-01-D

SECURITIES AND EXCHANGE COMMISSION

[Release No. 34-55589- File No. SR-ISE-2007-18]

Self-Regulatory Organizations; International Securities Exchange, LLC; Notice of Filing of Proposed Rule Change Relating to Customer Orders on the Book

Correction

In notice document E7-6870 beginning on page 18498, in the issue of Thursday, April 12, 2007, make the following correction:

On page 18499, in the first column, in the first paragraph, on the last line, “May 2, 2007” should read “May 3, 2007”.

[FR Doc. Z7-6870 Filed 4-18-07; 8:45 am]

BILLING CODE 1505-01-D